DEPARTMENT OF HOMELAND SECURITY

Coast Guard

33 CFR Part 117

[CGD11-05-028]

Drawbridge Operation Regulations; Sacramento River, Sacramento, CA

AGENCY: Coast Guard, DHS.

ACTION: Notice of temporary deviation from regulations.

SUMMARY: The Commander, Eleventh Coast Guard District, has issued a temporary deviation from the regulation governing the operation of the Tower Drawbridge across the Sacramento River, mile 59.0, at Sacramento, CA. This deviation allows the drawbridge to not open for vessel traffic and remain in the closed-to-navigation position. The deviation is necessary to rehabilitate the bridge deck.

DATES: This deviation is effective from 10 p.m. on October 16, 2005 through 7 a.m. on October 20, 2005.

ADDRESSES: Materials referred to in this document are available for inspection or copying at Commander (oan), Eleventh Coast Guard District, Building 50-3, Coast Guard Island, Alameda, CA 94501-5100, between 8 a.m. and 4 p.m., Monday through Friday, except Federal holidays.

FOR FURTHER INFORMATION CONTACT: David H. Sulouff, Chief, Bridge Section, Eleventh Coast Guard District, telephone (510) 437-3516.

SUPPLEMENTARY INFORMATION: California Department of Transportation (CalTrans) requested a temporary change to the operation of the Tower Drawbridge, mile 59.0, Sacramento River, Sacramento, CA. The Tower Drawbridge navigation span provides vertical clearance of 30 feet above Mean High Water in the closed-to-navigation position. Presently, the draw is required to open on signal as required by 33 CFR 117.189. CalTrans requested the drawbridge be allowed to remain closed to navigation from 10 p.m. on October 16, 2005 to 7 a.m. on October 20, 2005.

During this time, CalTrans will rehabilitate the bridge deck on the drawspan and avoid the risks associated with trying to maintain the delicate mechanical balance necessary for drawspan operation. Navigation on the waterway consists of both commercial and recreational watercraft. The drawspan can be operated for emergency purposes with 4 hours' advance notice. Vessels that can pass through the bridge in the closed-to-navigation position may continue to do so at any time. This deviation to drawbridge regulating operations has been coordinated with the waterway users. No objections to the proposed deviation were received.

In accordance with 33 CFR 117.35(c), this work will be performed with all due speed in order to return the bridge to normal operation as soon as possible. This deviation from the operating regulations is authorized under 33 CFR 117.35.

Dated: September 23, 2005.
Kevin J. Eldridge,
Rear Admiral, U. S. Coast Guard, Commander, Eleventh Coast Guard District.

[FR Doc. 05-19953 Filed 10-4-05; 8:45 am]

BILLING CODE 4910-15-P